DEPARTMENT OF DEFENSE

Department of the Navy

Public Hearings for the Draft Environmental Impact Statement/Overseas Environmental Impact Statement for the Hawaii Range Complex, HI

AGENCY: Department of the Navy, DoD.

ACTION: Notice.

SUMMARY: Pursuant to section 102(2)(c) of the National Environmental Policy Act (NEPA) of 1969 and regulations implemented by the Council on Environmental Quality (40 CFR parts 1500-1508), and Presidential Executive Order 12114, the Department of the Navy (Navy) has prepared and filed with the U.S. Environmental Protection Agency a Draft Environmental Impact Statement (EIS)/Overseas EIS on July 19, 2007, to evaluate the potential environmental effects of conducting current and emerging Navy Pacific Fleet training and defense-related research, development, test, and evaluation (RDT&E) operations within the Hawaii Range Complex (HRC) and to upgrade or modernize range complex capabilities (including hardware and infrastructure). A Notice of Intent for this DEIS/OEIS was published in the Federal Register, 71 FR 51188, on August 29, 2006.

The Draft EIS/OEIS was distributed to Federal, State, and Local agencies, elected officials, as well as other interested individuals and organizations on July 20, 2007. On July 27, 2007, Navy issued a revision to the Draft EIS/OEIS that was filed with the U.S. Environmental Protection Agency on July 19, 2007. Errata sheets and a corrected Draft EIS/OEIS were distributed to all Federal, State, and local agencies, elected officials, and other interested individuals and organizations on Navy's distribution list. To allow for the full 45-day review of the Draft EIS/OEIS, the public comment period has been extended from September 10, 2007 to September 17, 2007.

The Navy will conduct four public hearings to receive oral and written comments on the Draft EIS/OEIS. Federal agencies, state agencies, and local agencies and interested individuals are invited to be present or represented at the public hearings. This notice announces the dates and locations of the public hearings for this Draft EIS/OEIS.

Dates and Addresses: An open house session will precede the scheduled public hearing at each of the locations listed below and will allow individuals to review the information presented in the Draft EIS/OEIS. Navy representatives will be available during the open house sessions to clarify information related to the Draft EIS/OEIS. In addition, the National Marine Fisheries Service (NMFS), which is participating as a cooperating agency in the development of the EIS, will be represented at the public hearings. All meetings will start with an open house from 5 p.m. to 6 p.m. Presentations and public comment will be held from 6 p.m. to 9 p.m. Public hearings will be held on the following dates and at the following locations: August 21, 2007, at Kauai War Memorial Convention Hall, 4191 Hardy Street, Lihue, Hawaii; August 23, 2007, at McKinley High School, 1039 South King Street, Honolulu, Hawaii; August 27, 2007, at Baldwin High School, 1650 Kaahumanu Avenue, Wailuku, Hawaii; August 29, 2007, at Waiakea High School, 155 West Kawili Street, Hilo, Hawaii.

FOR FURTHER INFORMATION CONTACT: Public Affairs Officer, Pacific Missile Range Facility Attention: HRC EIS/OEIS, P.O. Box 128, Kekaha, Kauai, Hawaii 96752-0128. Voice mail 1-866-767-3347 or facsimile 808-335-4520.

SUPPLEMENTARY INFORMATION: The HRC consists of open ocean areas (outside 12 nautical miles (nm)), offshore areas (within 12 nm from land), and onshore areas geographically situated on and around the Hawaiian Islands. The complex covers 235,000 square nm around the main Hawaiian Islands chain and a 2.1 million square nm Temporary Operating Area (TOA) of sea and airspace. The study area is a complex consisting of instrumented ocean areas, airspace, ocean surface operation areas, targets, and land range facilities.

Navy proposes to support and conduct current and emerging training and RDT&E operations in the HRC and to upgrade or modernize range complex capabilities to enhance and sustain Navy training and defense-related testing. This would be accomplished by increasing training operations and implementing necessary force structure changes; supporting three transient Strike Group training exercises at the same time and an additional aircraft carrier during Rim of the Pacific Exercises; operating a Portable Undersea Tracking Range; constructing and operating an Acoustic Test Facility; enhancing RDT&E and training operations at the Pacific Missile Range Facility (PMRF); and using the TOA as required.

The Draft EIS/OEIS evaluates the potential environmental impacts of three alternatives, including two action alternatives (Alternatives 1 and 2) and the No-action Alternative. The No-action Alternative stands as no change from current levels of training usage. Alternatives 1 and 2 analyze an increased tempo and frequency of training exercises in the HRC. Alternative 2 is the Navy's preferred alternative.

No significant adverse impacts are identified for any resource area in any geographic location within the HRC that cannot be mitigated, with the exception of exposure of marine mammals to underwater sound. NMFS has received an application from the Navy for a Marine Mammal Protection Act Letter of Authorization (LOA) and governing regulations to authorize incidental take of marine mammals that may result from the implementation of the activities analyzed in the Draft EIS/OEIS. NMFS is participating as a cooperating agency in the development of this Draft EIS/OEIS. NMFS staff will be present at the scheduled open house and public hearings and available to discuss both the MMPA incidental take authorization process and NMFS' participation in the development of the EIS.

The Draft EIS/OEIS was distributed to Federal, State, and local agencies, elected officials, as well as other interested individuals and organizations on July 20, 2007. On July 27, 2007, Navy issued a revision to the Draft EIS/OEIS that was filed with the U.S. Environmental Protection Agency on July 19, 2007. Errata sheets and a corrected Draft EIS/OEIS were distributed to all Federal, State, and local agencies, elected officials, and other interested individuals and organizations on Navy's distribution list. To allow for the full 45-day review of the Draft EIS/OEIS, the public comment period has been extended from September 10, 2007 to September 17, 2007.

Copies of the Draft EIS/OEIS are available for public review at the following libraries: Kahului Public Library, 90 School Street, Kahului, Maui, Hawaii 96732; Wailuku Public Library, 251 High Street, Wailuku, Maui Hawaii 96793; Hilo Public Library, 300 Waianuenue Avenue, Hilo, Hawaii, HI 96720; Hawaii State Library, Hawaii and Pacific Section Document Unit, 478 South King Street, Honolulu, Oahu, Hawaii 96813-2994; Lihue Public Library, 4344 Hardy Street, Lihue, Kauai, Hawaii 96766; Waimea Public Library, P.O. Box 397, Waimea, Kauai Hawaii 96766; and Princeville Public Library, 4343 Emmalani Drive, Princeville, Kauai, Hawaii 96722. The Draft EIS/OEIS is also available for electronic public viewing at http://www.govsupport.us/hrc. Single copies of the Draft EIS/OEIS and the Executive Summary will be made available upon request by contacting Public Affairs Officer, Pacific Missile Range Facility, P.O. Box 128, Kekaha, Kauai, Hawaii 96752-0128, Attention: HRC EIS/OEIS, voice mail 1-866-767-3347 or facsimile 808-335-4520.

Federal, State, and local agencies and interested parties are invited to be present or represented at the public hearing. Written comments can also be submitted during the open house sessions preceding the public hearings. Oral statements will be heard and transcribed by a stenographer; however, to ensure the accuracy of the record, all statements should be submitted in writing. All statements, both oral and written, will become part of the public record on the Draft EIS/OEIS and will be responded to in the Final EIS/OEIS. Equal weight will be given to both oral and written statements.

In the interest of available time, and to ensure all who wish to give an oral statement have the opportunity to do so, each speaker's comments will be limited to three (3) minutes. If a long statement is to be presented, it should be summarized at the public hearing and the full text submitted in writing at the hearing, mailed to Public Affairs Officer, Pacific Missile Range Facility, P.O. Box 128, Kekaha, Kauai, Hawaii 96752-0128, ATTN: HRC EIS/OEIS, facsimile 808-335-4520; or submitted via e-mail to deis_hrc@govsupport.us or via the project Web site at http://www.govsupport.us/hrc.

All written comments must be postmarked or received by September 17, 2007, to ensure they become part of the official record. All comments will be responded to in the Final EIS/OEIS.

Dated: July 30, 2007.
M.C. Holley,
Lieutenant Commander, Office of the Judge Advocate General, U.S. Navy, Administrative Law Division, Alternate Federal Register Liaison Officer.

[FR Doc. E7-15127 Filed 8-2-07; 8:45 am]

BILLING CODE 3810-FF-P